DEPARTMENT OF THE INTERIOR

Glen Canyon Dam Adaptive Management Work Group (AMWG)

AGENCY: Bureau of Reclamation, Interior.

ACTION: Notice of Public Meeting.

SUMMARY: The Adaptive Management Program (AMP) was implemented as a result of the Record of Decision on the Operation of Glen Canyon Dam Final Environmental Impact Statement to comply with consultation requirements of the Grand Canyon Protection Act (Pub. L. 102-575) of 1992. The AMP includes a federal advisory committee (AMWG), a technical work group (TWG), a monitoring and research center, and independent review panels. The AMWG makes recommendations to the Secretary of the Interior concerning Glen Canyon Dam operations and other management actions to protect resources downstream of Glen Canyon Dam consistent with the Grand Canyon Protection Act. The TWG is a subcommittee of the AMWG and provides technical advice and recommendations to the AMWG.

Date and Location: The AMWG will conduct the following meeting:

Date: Tuesday-Wednesday, September 9-10, 2008. The meeting will begin at 9:15 a.m. and conclude at 5:30 p.m. the first day and begin at 8 a.m. and conclude at 5 p.m. on the second day. The meeting will be held at Little America Hotel, 2515 E. Butler Avenue, Grand Ballroom B, in Flagstaff, Arizona.

Agenda: The purpose of the meeting will be for the AMWG to receive updates and discuss the following items: research and monitoring on the March 2008 high flow experiment, trout predation, the endangered humpback chub population, sediment conservation in the Colorado River, non-native fish control, hydropower economics, the existing Strategic Plan, and desired future resource conditions. There also will be updates on biological opinion conservation measures, basin hydrology, and activities of the Lees Ferry Trout Fishery Ad Hoc Group. The AMWG will also deliberate on the Fiscal Year 2009 proposed budget and workplan and develop a motion for a budget recommendation to the Secretary of the Interior. To view a copy of the draft agenda and other meeting materials, please visit Reclamation's Web site at: http://www.usbr.gov/uc/rm/amp/amwg/mtgs/08sep09/index.html.

Time will be allowed for any individual or organization wishing to make formal oral comments at the meeting. To allow for full consideration of information by the AMWG members, written notice must be provided to Dennis Kubly, Bureau of Reclamation, Upper Colorado Regional Office, 125 South State Street, Room 6107, Salt Lake City, Utah 84138; telephone (801) 524-3715; facsimile (801) 524-3858; e-mail at: dkubly@uc.usbr.gov at least five (5) days prior to the meeting. Any written comments received will be provided to the AMWG members.

FOR FURTHER INFORMATION CONTACT: Dennis Kubly, Bureau of Reclamation, telephone (801) 524-3715; facsimile (801) 524-3858; e-mail at: dkubly@uc.usbr.gov.

Dated: August 1, 2008.
Tom Ryan,
Manager, Environmental Resources Division, Upper Colorado Regional Office, Salt Lake City, Utah.

[FR Doc. E8-19245 Filed 8-19-08; 8:45 am]

BILLING CODE 4310-MN-P